DEPARTMENT OF AGRICULTURE

Forest Service

Information Collection; Request for Comment; Assessing and Extending the Utility of The Natural Inquirer

AGENCY: Forest Service, USDA.

ACTION: Notice.

SUMMARY: In accordance with the Paperwork Reduction Act of 1995, the Forest Service is seeking comments from all interested individuals and organizations on the new information collection entitled, “Assessing and Extending the Utility of The Natural Inquirer.”

DATES: Comments must be received in writing on or before October 18, 2004, to be assured of consideration. Comments received after that date will be considered to the extent practicable.

ADDRESSES: Comments concerning this notice should be addressed to Dr. Barbara McDonald, Resource Valuation and Use Research, Forestry Sciences Laboratory, Forest Service, USDA, 320 Green Street, Athens, GA 30602-2044.

Comments also may be submitted via facsimile to (706) 559-4245 or by e-mail to bmcdonald@fs.fed.us.

The public may inspect comments received at Forestry Sciences Laboratory, Forest Service, USDA, 320 Green Street, Athens, Georgia, during normal business hours. Visitors are encouraged to call ahead to (706) 559-4224 to facilitate entry to the building.

FOR FURTHER INFORMATION CONTACT: Dr. Barbara McDonald, Resource Valuation and Use Research, at (706) 559-4224.

Individuals who use telecommunication devices for the deaf (TDD) may call the Federal Relay Service (FRS) at 1-800-877-8339 twenty-four hours a day, every day of the year, including holidays.

SUPPLEMENTARY INFORMATION: Title: Assessing and Extending the Utility of The Natural Inquirer.

OMB Number: 0596-New.

Expiration Date of Approval: N/A.

Type of Request: New.

Abstract: The Office of Management and Budget (OMB) created guidelines for information quality in accordance with Section 515 of Public Law 106-554. That section is known as the Data Quality Act. OMB published guidelines that require all federal government agencies to create their own agency-specific guidelines to ensure compliance with the Data Quality Act. Hence, the United States Department of Agriculture (USDA) created detailed guidelines for the quality of information disseminated by its agencies and offices. As an agency of the USDA, the Forest Service is subject to these guidelines.

The USDA guidelines state that the USDA “will strive to ensure and maximize the quality, objectivity, utility, and integrity of the information that its agencies and offices disseminate to the public.” Specifically, the utility standard provides that agencies and offices should assess the usefulness of information disseminated to its intended users as well as the public.

Forest Service Research and Development (R&D) annually publishes a science journal for middle and high school students called The Natural Inquirer. The Natural Inquirer makes Forest Service research accessible and interesting to middle and high school students. The distribution for the newest Natural Inquirer, which includes both national and international destinations, will be over 500,000. Formal, non-formal, and informal educators, as well as the general public, receive this journal through the Forest Service Conservation Education network, federal and state partners, and through The Natural Inquirer Web site. The Natural Inquirer provides a new benchmark for the utility of Forest Service research, as it extends the utility of the research to an educational resource meant to increase scientific literacy in middle and high school students.

Current evaluation of The Natural Inquirer by its users is not systematic or scientifically valid and provides only anecdotal information about the utility of the Forest Service research being presented. The Forest Service, therefore, needs a systematic and scientifically valid way of assessing the usefulness of the journal in accordance with USDA guidelines for implementing the Data Quality Act. Further, such systematic assessment should be the basis for extending the utility of information dissemination via The Natural Inquirer.

Five hundred respondents will be selected using a random sample based on addresses of individuals who have ordered The Natural Inquirer publication within the United States. They will be asked to respond to questions in the following categories: (1) The utility of The Natural Inquirer journal; (2) the utility of The Natural Inquirer Web site; (3) suggestions for improvement of utility of The Natural Inquirer; and (4) selected demographic information regarding teaching experience.

The majority of information will be collected using the Dillman method through a mail survey instrument. Some personal interviews with a small sample of educators, and classroom observations will also be employed to assess how The Natural Inquirer is used in the classroom. A graduate student at the University of Georgia will collect the information. The graduate student will contact potential respondents via a postcard, then with the survey, follow-up postcards as necessary, and follow-up with a thank you note. A Forest Service social scientist will supervise the data collection.

A graduate student from the University of Georgia and a Forest Service social scientist will analyze and evaluate the collected information. The information collected will be used to increase accountability of Forest Service information outreach and to extend the utility of The Natural Inquirer publication and Web site for educators and students.

The Forest Service has invested heavily in producing timely, relevant, and credible forest science across a wide range of natural resource disciplines. This information should be readily accessible to the general public, including non-traditional audiences such as students. The Natural Inquirer extends the utility of Forest Service research by making it accessible to a middle school audience. This information collection will enable the Forest Service to extend the utility of The Natural Inquirer, increase accountability regarding federal information outreach, and provide the most useful information possible to the public by gathering feedback on how to improve the journal for the use of its intended audience.

Estimate of Annual Burden: 20 minutes.

Type of Respondents: Individuals in the United States who have ordered The Natural Inquirer.

Estimated Annual Number of Respondents: 400.

Estimated Annual Number of Responses per Respondent: 1.

Estimated Total Annual Burden on Respondents: 133.33 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.

Dated: August 13, 2004.
Bov B. Eav,
Associate Deputy Chief for Research & Development.

[FR Doc. 04-19042 Filed 8-18-04; 8:45 am]

BILLING CODE 3410-11-P